DEPARTMENT OF THE INTERIOR

National Park Service

Final Environmental Impact Statement, Systems Conveyance and Operations Program, Lake Mead National Recreation Area, Clark County, NV; Notice of Approval of Record of Decision

Summary: Pursuant to section 102(2)(C) of the National Environmental Policy Act of 1969 (Pub. L. 91-190, as amended) and the implementing regulations promulgated by the Council on Environmental Quality (40 CFR 1505.2), the Department of the Interior, National Park Service has prepared, and the Regional Director, Pacific West Region has approved, the Record of Decision for the Clean Water Coalition's proposed System Conveyance and Operations Program. The formal no-action period was officially initiated February 23, 2007, with the U.S. Environmental Protection Agency's Federal Register notification of the filing of the Final Environmental Impact Statement (EIS).

Decision: The Final EIS analyzed a no-action alternative, a process improvement alternative, and three pipeline alternatives that would variously redirect a portion of highly treated effluent from the Las Vegas Wash into the Boulder Basin. The selected alternative—Boulder Islands North pipeline alternative—combines use of current conventional treatment processes, plant optimization, and increased treatment. In addition, a pipeline will be constructed to convey highly treated effluent from three treatment facilities to a discharge location near the Boulder Islands in Lake Mead. There will be flexibility in discharge conveyed depending upon lake conditions and the objectives identified in the Boulder Basin Adaptive Management Plan which was developed and agreed to by all involved parties. As documented in the Final EIS, this course of action was deemed to be “environmentally preferred”.

The Final EIS, and previously in the Draft EIS (the latter was released in September 2005), assessed the full spectrum of foreseeable environmental consequences, and appropriate mitigation measures identified, for each alternative considered. Beginning with early scoping, through the preparation of the Draft and Final EIS, numerous public meetings were hosted. Approximately 500 oral and written comments were received during the scoping phase or in response to the Draft EIS. Key coordination, consultations, or other contacts which aided in preparing the Draft and Final EIS involved (but were not limited to) the Bureau of Reclamation, cities of Las Vegas and Henderson, Clark County Water Reclamation District, Metropolitan Water District of Southern California, Southern Nevada Water Authority, Nevada State Historic Preservation Office, the Bureau of Land Management, and the U.S. Fish and Wildlife Service. Local communities, county and city officials, and interested organizations were contacted extensively during initial scoping and throughout the conservation planning and environmental impact analysis process.

Copies: Interested parties desiring to review the Record of Decision may obtain a complete copy by contacting the Superintendent, Lake Mead National Recreation Area, 601 Nevada Highway, Boulder City, NV 89005; or via telephone request at (702) 293-8920.

Dated: July 5, 2007.
Patricia L. Neubacher,
Acting Regional Director, Pacific West Region.

[FR Doc. E7-15294 Filed 8-6-07; 8:45 am]

BILLING CODE 4310-A7-P